NUCLEAR REGULATORY COMMISSION

[Docket Nos. 50-361 and 50-362; NRC-2013-0083]

Southern California Edison; San Onofre Nuclear Generating Station, Units 2 and 3

AGENCY: Nuclear Regulatory Commission.

ACTION: Revised director's decision under 10 CFR 2.206; issuance.

SUMMARY: The U.S. Nuclear Regulatory Commission (NRC or the Commission) has issued a revised director's decision (DD) with regard to a petition dated June 18, 2012, filed by Mr. Richard Ayres, Counsel for Friends of the Earth (the petitioner), requesting that the NRC take action with regard to Southern California Edison (SCE or the licensee) at the San Onofre Nuclear Generating Station (SONGS). The petitioner's requests, the letter to the petitioner, the letter to the licensee, and the DD are included in the SUPPLEMENTARY INFORMATION section of this document.

ADDRESSES: Please refer to Docket ID NRC-2013-0083 when contacting the NRC about the availability of information regarding this document. You may obtain publicly-available information related to this document using any of the following methods:

• Federal Rulemaking Web site: Go to http://www.regulations.gov and search for Docket ID NRC-2013-0083. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Thomas Wengert, Office of Nuclear Reactor Regulation, U.S. Nuclear Regulatory Commission, Washington, DC 20555-0001; telephone: 301-415-4037, email: Thomas.Wengert@nrc.gov.

SUPPLEMENTARY INFORMATION: Notice is hereby given that the Director, Office of Nuclear Reactor Regulation, has issued a revision to a DD dated July 28, 2015 (ADAMS Accession No. ML15183A164), on a portion of an intervention and hearing request petition filed by the petitioner on June 18, 2012 (ADAMS Accession No. ML12171A409), that was referred to the NRC's Office of the Executive Director for Operations by the Commission in its November 8, 2013, Memorandum and Order CLI-12-20 (ADAMS Accession No. ML12313A118), for consideration as a petition under section 2.206 of Title 10 of the Code of Federal Regulations (10 CFR), “Request for action under this part.” The petition was supplemented on November 16, 2012; January 16, 2013; and February 6, 2013 (ADAMS Accession Nos. ML12325A748, ML13029A643, and ML13109A075, respectively).

The petitioner requested that the NRC order SCE to submit a license amendment application for the design and installation of the SONGS, Units 2 and 3, replacement steam generators (SGs) and to suspend SCE's licenses until they are amended.

As the basis of the request, the petitioner asserted that the licensee violated 10 CFR 50.59, “Changes, tests, and experiments,” when the SGs for SONGS, Units 2 and 3, were replaced in 2010 and 2011 without a license amendment request.

The NRC sent a copy of the proposed DD to the petitioner and the licensee for comment on February 27, 2015 (ADAMS Accession Nos. ML15020A121 and ML15020A165, respectively). The petitioner and the licensee were asked to provide comments within 30 days on any part of the proposed DD that was considered to be erroneous or any issues in the petition that were not addressed. Comments were received from the petitioner and were addressed in an attachment to the final DD. The licensee had no comments on the proposed DD; however, the licensee did provide a response to the petitioner's comments. The NRC staff reviewed the response from the licensee and determined that because the licensee's comments are direct rebuttals to the petitioner's comments and raised no concerns with the proposed DD, that no changes to the final DD were required as a result of the licensee's comments.

On July 28, 2015, the NRC issued a DD regarding this matter. Subsequently, the NRC identified portions of this DD that required clarification regarding the scope of the petition and the decision. Accordingly, Section I of the DD is revised to clarify that the scope of the petition, which was referred by the Commission to the NRC staff in Memorandum and Order CLI-12-20, includes the underlying question of whether the licensee violated 10 CFR 50.59 when it replaced the SGs at SONGS, Units 2 and 3, without first obtaining a license amendment. Section II addresses the NRC staff's resolution of this underlying question; and the conclusion in Section III is updated to reflect the resolution of this underlying question. Section II is also revised to clarify additional NRC staff activities associated with the SONGS SG event that support the conclusion regarding whether the licensee violated 10 CFR 50.59 by replacing the SGs without a license amendment.

As stated in the DD, the Director of the Office of Nuclear Reactor Regulation has determined that the requests for the NRC to order the licensee to submit a license amendment application for the design and installation of the SONGS, Units 2 and 3, replacement SGs and to suspend SCE's licenses until they are amended be denied. The reasons for this decision are explained in the DD (DD-15-07; ADAMS Accession No. ML15267A158) pursuant to 10 CFR 2.206, “Requests for action under this subpart,” of the Commission's regulations.

The NRC will file a copy of the DD with the Secretary of the Commission for the Commission's review in accordance with 10 CFR 2.206. As provided by this regulation, the revised DD will constitute the final action of the Commission 25 days after the date of the decision unless the Commission, on its own motion, institutes a review of the DD in that time.

Dated at Rockville, Maryland, this 2nd day of October 2015.
For the Nuclear Regulatory Commission.
William M. Dean,
Director, Office of Nuclear Reactor Regulation.

[FR Doc. 2015-25856 Filed 10-9-15; 8:45 am]

BILLING CODE 7590-01-P